DEPARTMENT OF HEALTH AND HUMAN SERVICES

Centers for Medicare & Medicaid Services

[CMS-5520-N]

Announcement of Requirements and Registration for “A Bill You Can Understand” Design and Innovation Challenge: Help Patients Understand Their Medical Bills and the Financial Aspect of Health

AGENCY: Centers for Medicare & Medicaid Services (CMS), HHS.

ACTION: Notice.

SUMMARY: This notice announces a Challenge to engage those in the health care community working on these issues, as well as new players from other industries, such as human-centered design and digital technology, to help in redesigning the “Medical Bill” or the “Medical Billing Process.”

DATES: Submission Dates: May 9, 2016, 12:01 a.m., Eastern daylight time (e.d.t.) through August 10, 2016, 11:59 p.m., e.d.t.

Judging Dates: August 20 through September 10, 2016.

Winners Announced: September 25 through 28, 2016.

FOR FURTHER INFORMATION CONTACT: Ben Shannon, Communications Advisor, Office of the Assistant Secretary for Public Affairs, Department of Health and Human Services, 200 Independence Avenue SW., Washington, DC 20201, phone (202) 205-2819, email ben.shannon@hhs.gov.

SUPPLEMENTARY INFORMATION:

I. Background

Patients in the United States often have difficulty understanding the medical billing process. Currently, there is no standard for consumer medical billing documents, and bills vary in content, presentation, and use of jargon. Consumers also receive bills from multiple sources and may not understand the rationale for each bill, or know that they will be receiving multiple bills for one episode of care.

HHS recognizes that many health care organizations have been doing important work to address the complex problems that individuals face as they navigate the medical billing process. A national design and innovation challenge is a unique way to both support these ongoing efforts and catalyze innovation.

II. Provisions of the Notice

The Challenge has two objectives:

• Objective 1: “Redesigning the Medical Bill”: Improving the medical bill itself. That is, making it more readable and easier for the consumer to understand.

• Objective 2: “Redesigning the Medical Billing Process”: Improving the overall medical billing process. Submissions could address any step in the consumer journey from the medical encounter to afterward (for example, providing information at discharge on the medical billing process, developing a consolidated bill, creating a unified billing portal, etc.).

HHS intends for the challenge to produce conceptual solutions and frames that will help health systems and payers continue to make improvements in reducing the complexity of medical bills and improving the financial aspect of health from the patient's perspective. HHS anticipates health systems and payers will find ways to work with Challenge winners to evaluate their solutions for implementation and testing in the real world after the Challenge concludes.

A. Subject of the Challenge Competition

“A Bill You Can Understand” design and innovation challenge will invite participants to design a medical bill that is easier to understand, as well as reinvent cost of care estimation and the medical billing journey with the goal of improving the patient financial experience. Participants will be asked to submit entries that improve both the design of the medical bill and patient experience of the medical billing process. Submissions will include the (1) design concept for the redesigned medical bill, (2) journey map or wireframe for the redesigned patient experience, (3) written explanation of submission, and (3) video explanation of submission. Specific criteria for the written and video explanations will be provided on the Challenge Web site. These may include but are not limited to explaining how the redesign will better empower patients to understand the financial information provided on their medical bill and take appropriate action and vision for an improved patient financial experience. The challenge is sponsored by AARP, administrated by Mad*Pow, an experience design agency, and organized in collaboration with HHS.

B. Eligibility Rules for Participating in the Competition

The Challenge is open to any contestant, defined as (1) a business or non-profit entity or (2) an individual or team of no more than 5 U.S. citizens or permanent residents of the United States who are 18 years of age or older at the time of entry. All individual members of a team must meet the eligibility requirements.

To be eligible to win a prize under this challenge, an individual or entity—

(1) Shall have registered to participate in the competition under the rules issued by CMS;

(2) Shall have complied with all the requirements under this Notice, the rules for participants referenced herein below, and the requirements set forth in 15 U.S.C. 3719;

(3) In the case of a private entity, shall be incorporated in and maintain a primary place of business in the United States, and in the case of an individual, whether participating singly or in a group, shall be a citizen or permanent resident of the United States; and

(4) May not be a Federal entity or Federal employee acting within the scope of their employment. Federal employees seeking to participate in this contest outside the scope of their employment should consult their ethics official prior to developing their submission.

(5) May not be employees of CMS, judges of the Challenge, or any other party involved with the design, production, execution, or distribution of the Challenge or their immediate family (spouse, parents or step-parents, siblings and step-siblings, and children and step-children).

(6) May not be the trustees, directors, shareholders, employees, clients (with respect to Mad*Pow only), contractors, agents, representatives and affiliates of AARP, Mad*Pow and any entity associated with the funding, administration, judging, or processing of the Challenge and the members of the immediate family which includes a person's spouse/domestic partner and the parents, siblings, children and grandchildren of the person and his or her spouse/domestic partner.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

By entering, each contestant agrees to:

(a) Comply with, and be bound by, these official rules and the decisions of the Challenge and judges which are binding and final in all matters relating to this Challenge;

(b) assume any and all risks and waive claims against the federal government and its related entities, except in the case of willful misconduct, for any injury, death, damage, or loss of property, revenue, or profits, whether direct, indirect, or consequential, arising from the contestant's participation in the Challenge, whether the injury, death, damage, or loss arises through negligence or otherwise. The contestant/submitter shall be liable for, and shall indemnify and hold harmless the government against, all actions or claims for any claim, demand, judgment, or other allegation arising from alleged violation of an individual's trademark, copyright, or other legally protected interest in challenge entries submitted to Mad*Pow. Provided, however, that contestants are not required to waive claims arising out of the unauthorized use or disclosure by AARP and/or Mad*Pow of the intellectual property, trade secrets, or confidential business information of the contestant.

(c) Be responsible for obtaining their own liability insurance to cover claims by any third party for death, bodily injury, or property damage, or loss resulting from an activity carried out in connection with participation in the Challenge, and claims by the federal government for damage or loss to government property resulting from such an activity; and

(d) Indemnify the federal government against third party claims for damages arising from or related to Challenge activities.

Based on the subject matter of the Challenge, the type of work that it will possibly require, as well as an analysis of the likelihood of any claims for death, bodily injury, property damage, or loss potentially resulting from Challenge participation, no individual (whether competing singly or in a group) or entity participating in the Challenge is required to obtain liability insurance or demonstrate financial responsibility in order to participate in this Challenge.

Contestants who are determined at any time to have violated the eligibility criteria will be disqualified from the Challenge.

C. Registration Process for Participants

The entry period for the Challenge will begin as stated in the DATES section of this notice. Contestants can enter the Challenge by visiting the Challenge Web site at http://www.abillyoucanunderstand.com, reviewing official challenge rules and guidelines, and registering a submission by submitting the Official Entry Form according to the instructions posted on the Challenge Web site. Each Submission entered into the Challenge must meet the “Submission Requirements” (any submission that, in the Challenge Judges' sole discretion, violates submission criteria will be disqualified). Once a submission is made, a team is prohibited from making any changes or alterations to the product described in its submission until the evaluation of the entries is completed.

D. Amount of the Prize

Two winning contestants will be selected for the following prizes:

• Prize 1—$5000: Most Improved Medical Bill Design (Focusing on the design of the bill itself).

• Prize 2—$5000: Transformational Approach to Medical Cost Estimation and Billing Process (Focusing on what the patient sees and does throughout the process).

E. Payment of the Prize

Prizes awarded under this competition will be paid by check and may be subject to federal income taxes. The prizes are donated by a private donor, AARP, Inc.

F. Basis Upon Which the Winners Will Be Selected

The entries will be judged by HHS leadership with consideration of input from an advisory panel of individuals in compliance with the requirements of the COMPETES Act. Judges will be fair and impartial, may not have a personal or financial interest in, or be an employee, officer, director, or agent of, any entity that is a registered participant in the competition, and may not have a familial or financial relationship with an individual who is a registered contestant. Judges will be named after the Challenge begins. The judging panel will make decisions based on the following criteria:

Criteria for Both Prizes 1 and 2:

• Contains all Necessary Data and Information.

• Usefulness and Understandability of Patient Facing Materials (Bill or Otherwise).

• Adherence to Plain Language Guidelines.

• Transparency of Data (Including How the Data is Translated and Explained).

• Uniqueness and Creativity of Solution.

Additional Specific Criteria for Prize 1: Most Improved Medical Bill Design (Focusing on the design of the bill itself):

• Addresses Issues and Opportunities Associated with Bill Design.

• Incremental Innovation—Works with Existing Models (Workflow, Data, Technology, Patient Facing Materials).

Additional Specific Criteria for Prize 2: Transformational Approach to Medical Cost Estimation and Billing Process (Focusing on what the patient sees and does throughout the process):

• Addresses Issues and Opportunities associated with Medical Cost Estimation and Billing Process.

• Alignment with Modern Consumer Expectations.

• Future Forward Innovation—Evolves Existing Models (Workflow, Data, Technology, Patient Facing Materials).

The details of these criteria are provided on the Challenge Web site at http://www.abillyoucanunderstand.com.

G. Additional Information

More information on the topic area can be found in the participant resource packet on the Challenge Web site at http://www.abillyoucanunderstand.com.

H. Regarding Copyright/Intellectual Property

Each contestant, by submitting any design, irrevocably grants to HHS a royalty-free, irrevocable, perpetual, non-exclusive, transferable license to use, reproduce, modify, edit, adapt, publish, and display such design in whole or in part, on a worldwide basis, and to incorporate it into other works, in any form, media or technology now known or later developed, including for promotional, marketing, educational, training and other public health purposes consistent with HHS and/or CMS' mission and without further compensation to the contestant or any other person or entity. For clarity, each contestant's design and all rights, including intellectual property rights, title, and interest therein and thereto lie exclusively with each contestant. There is no agreement of sale, and no title, interest, or intellectual property rights or other ownership of the design are transferred per the official rules of the Challenge, except as explicitly stated here. HHS shall not be responsible for mediating disputes that arise relating to intellectual property ownership.

Upon submission, contestants warrant that they are the sole author and owner of the Challenge Submission, and that the submission completely originates with the contestant, that it does not infringe upon any copyright or any other rights of any third party of which contestant(s) is aware, and is free of malware.

The official rules of the Challenge are provided on the Challenge Web site at http://www.abillyoucanunderstand.com.

I. Compliance With Rules and Contacting Contest Winners

Contest winners must comply with all terms and conditions of the official rules; winning is contingent upon fulfilling all requirements herein. The initial finalists will be notified by email, telephone, or mail after the date of the judging. Awards may be subject to federal income taxes, and HHS will comply with the Internal Revenue Service withholding and reporting requirements, where applicable.

J. Privacy

If contestants choose to provide Mad*Pow or HHS with personal information by registering or filling out the submission form through the Challenge Web site, that information is used to respond to contestants in matters regarding their submission, announcements of entrants, finalists, and winners of the contest. Information is not collected for commercial marketing. Winners are permitted to cite that they won this Challenge.

K. General Conditions

HHS reserves the right to cancel, suspend, and/or modify the Challenge, or any part of it, for any reason, at HHS' sole discretion.

Participation in this contest constitutes contestants' full and unconditional agreement to abide by the official rules found at http://www.abillyoucanunderstand.com and www.Challenge.gov.

III. Collection of Information Requirements

This document does not impose information collection requirements, that is, reporting, recordkeeping or third-party disclosure requirements. Consequently, there is no need for review by the Office of Management and Budget under the authority of the Paperwork Reduction Act of 1995 (44 U.S.C. 3501 et seq.).

Dated: May 2, 2016.
Andrew M. Slavitt,
Acting Administrator, Centers for Medicare & Medicaid Services.

[FR Doc. 2016-10980 Filed 5-9-16; 8:45 am]

BILLING CODE 4120-01-P